DEPARTMENT OF COMMERCE

International Trade Administration

A-570-894

Certain Tissue Paper Products from the People's Republic of China: Notice of Initiation of Anti-circumvention Inquiry

AGENCY: Import Administration, International Trade Administration, Department of Commerce.

SUMMARY: In response to a request from the Seaman Paper Company of Massachusetts, Inc. (petitioner), the Department of Commerce (the Department) is initiating an anti-circumvention inquiry to determine whether certain imports of tissue paper from Vietnam are circumventing the antidumping duty order on certain tissue paper products (tissue paper) from the People's Republic of China (PRC). See Notice of Amended Final Determination of Sales at Less than Fair Value and Antidumping Duty Order: Certain Tissue Paper Products from the People's Republic of China, 70 FR 16223 (March 30, 2005) (Tissue Paper Order).

EFFECTIVE DATE: September 12, 2006.

FOR FURTHER INFORMATION CONTACT: Kristina Boughton or Bobby Wong, AD/CVD Operations, Office 9, Import Administration, International Trade Administration, U.S. Department of Commerce, 14th Street and Constitution Avenue, NW, Washington, DC 20230; telephone: (202) 482-8173 or (202) 482-0409, respectively.

SUPPLEMENTARY INFORMATION:

Background

On July 19, 2006, petitioner submitted a letter requesting that the Department initiate and conduct an anti-circumvention inquiry, pursuant to section 781(b) of the Tariff Act of 1930, as amended (the Act), and 19 CFR 351.225(h), to determine whether imports of tissue paper from Vietnam made from jumbo rolls of tissue paper which are a product of the PRC are circumventing the antidumping duty order on tissue paper from the PRC. Specifically, petitioner alleges that sending PRC jumbo rolls of tissue paper to Vietnam for completion or assembly into merchandise of the same class or kind as that covered by the antidumping duty order on tissue paper from the PRC constitutes circumvention of the antidumping duty order on tissue paper from the PRC.

On July 21, 2006, petitioner re-filed the anti-circumvention request to include business proprietary information, which had been redacted in the first initiation request. On August 11, 2006, Vietnam Quijiang Paper Co., Ltd (Quijiang) submitted comments on petitioner's July 21, 2006, request for an anti-circumvention inquiry. On August 14, 2006, the Department requested that petitioner submit documentation referenced, but not included, in its July 21, 2006, request. On August 18, 2006, petitioner submitted a response to the Department's August 14, 2006, request. On August 21, 2006, petitioner submitted comments on Quijiang's August 11, 2006, submission.

Scope of the Order

The tissue paper products subject to order are cut-to-length sheets of tissue paper having a basis weight not exceeding 29 grams per square meter. Tissue paper products subject to this order may or may not be bleached, dye-colored, surface-colored, glazed, surface decorated or printed, sequined, crinkled, embossed, and/or die cut. The tissue paper subject to this order is in the form of cut-to-length sheets of tissue paper with a width equal to or greater than one-half (0.5) inch. Subject tissue paper may be flat or folded, and may be packaged by banding or wrapping with paper or film, by placing in plastic or film bags, and/or by placing in boxes for distribution and use by the ultimate consumer. Packages of tissue paper subject to this order may consist solely of tissue paper of one color and/or style, or may contain multiple colors and/or styles.

Tissue paper products subject to this order do not have specific classification numbers assigned to them under the Harmonized Tariff Schedule of the United States (HTSUS) and appear to be imported under one or more of the several different “basket” categories, including but not necessarily limited to the following subheadings: HTSUS 4802.30, HTSUS 4802.54, HTSUS 4802.61, HTSUS 4802.62, HTSUS 4802.69, HTSUS 4804.39, HTSUS 4806.40, HTSUS 4808.30, HTSUS 4808.90, HTSUS 4811.90, HTSUS 4823.90, HTSUS 9505.90.40.

Although the HTSUS subheadings are provided for convenience and customs purposes, the written description of the scope of the investigation is dispositive.

Excluded from the scope of the order are the following tissue paper products: (1) tissue paper products that are coated in wax, paraffin, or polymers, of a kind used in floral and food service applications; (2) tissue paper products that have been perforated, embossed, or die-cut to the shape of a toilet seat, i.e., disposable sanitary covers for toilet seats; (3) toilet or facial tissue stock, towel or napkin stock, paper of a kind used for household or sanitary purposes, cellulose wadding, and webs of cellulose fibers (HTSUS 4803.00.20.00 and 4803.00.40.00).

Initiation of Anti-circumvention Proceeding

Applicable Statute

Section 781(b) of the Act provides that the Department may find circumvention of an antidumping duty order when merchandise of the same class or kind subject to the order is completed or assembled in a foreign country other than the country to which the order applies. In conducting anti-circumvention inquiries under section 781(b) of the Act, the Department relies upon the following criteria: (A) merchandise imported into the United States is of the same class or kind as any merchandise produced in a foreign country that is subject to an antidumping duty order; (B) before importation into the United States, such imported merchandise is completed or assembled in another foreign country from merchandise which is subject to the order or produced in the foreign country that is subject to the order; (C) the process of assembly or completion in the foreign country referred to in (B) is minor or insignificant; (D) the value of the merchandise produced in the foreign country to which the antidumping duty order applies is a significant portion of the total value of the merchandise exported to the United States; and (E) the administering authority determines that action is appropriate to prevent evasion of such order or finding. As discussed below, petitioner presented evidence with respect to these criteria.

A. Merchandise of the Same Class or Kind

Petitioner states that the Tissue Paper Order covers cut-to-length sheets of tissue paper equal to or greater than 0.5 inches in width, with a basis weight not exceeding 29 grams per square meter and other specified characteristics of the scope. Petitioner argues that the tissue paper from Vietnam, which Quijiang has stated on the record of the first administrative review of tissue paper from the PRC that it produces from Chinese jumbo rolls and which is being imported into the United States from Vietnam, is physically identical to the subject merchandise cut-to-length tissue paper from the PRC. Because of this, pursuant to section 781(b)(1)(A)(i) of the Act, petitioner claims this tissue paper is of the same class or kind as the tissue paper produced in the PRC, which is subject to the antidumping duty order.

B. Completion of Merchandise in a Foreign Country

Petitioner states that the tissue paper that is the subject of the anti-circumvention inquiry request is made from jumbo rolls of tissue paper produced in the PRC and processed in Vietnam for export to the United States. Petitioner argues that this tissue paper is the final result of a production process that involves a highly capital intensive, skilled operation to produce the tissue paper in the PRC with end stage processing, including converting the tissue paper (cutting-to-length, possibly folding, and packaging) and possibly printing or dying, to produce cut-to-length tissue paper in Vietnam. Petitioner also notes that Quijiang and Guilin Qifeng Paper Co., Ltd. (Guilin Qifeng) have both stated on the record of the first administrative review of tissue paper from the PRC that Guilin Qifeng supplied its affiliate Quijiang with jumbo rolls of tissue paper produced in the PRC, which were then further processed in Vietnam. Petitioner therefore concludes that, pursuant to section 781(b)(1)(B)(ii) of the Act, Quijiang's cut-to-length tissue paper is merchandise completed in another foreign country (Vietnam) from merchandise that is produced in a country (the PRC) already subject to a dumping order which includes cut-to-length tissue paper in its scope.

C. Minor or Insignificant Process

Petitioner argues that for the purposes of section 781(b)(1)(C) of the Act, conversion of jumbo rolls of tissue paper produced in the PRC into cut-to-length tissue paper in Vietnam is a “minor or insignificant process” as defined by the Act. According to petitioner, printing and dying are decorative operations that complete the decorative aspects of merchandise. Petitioner argues that most fundamental aspects of the merchandise-tissue paper possessing a particular basis weight, texture, quality, and other specific characteristics that may be required if the paper is intended for printing-are previously and irrevocably established when the tissue paper is produced. Citing the February 17, 2004, petition in tissue paper from the PRC, petitioner states that the production process for making lightweight tissue paper is complex and requires high-quality material inputs, complex and capital-intensive physical equipment, and high levels of technical expertise by the operators. See “Antidumping Duty Petition on Certain Tissue Paper Products and Crepe Paper Products from the People's Republic of China,” filed by Seaman Paper Company of Massachusetts, Inc.; American Crepe Corporation; Eagle Tissue LLC; Flower City Tissue Mills Co.; Garlock Printing & Converting, Inc.; Paper Service Ltd.; Putney Paper Co., Ltd.; and the Paper, Allied-Industrial, Chemical and Energy Workers International Union AFL-CIO, CLC, dated February 17, 2004. Furthermore, petitioner claims that this type of tissue paper production is consistent with the production that Guilin Qifeng employs in the PRC. According to its Internet site, petitioner states, Guilin Qifeng possesses a large, modern papermaking operation, with 18 different paper machines. See July 21, 2006, anti-circumvention request at Exhibit 4.

Petitioner states that the papermaking process is different in significance and complexity compared to the dying, decorating, printing or converting of jumbo rolls. While petitioner states that it does not have access to the detailed information concerning Quijiang's facilities, it contends that the best information available on Vietnam processing is the record of the underlying investigation concerning production in the PRC. Regarding printing in the PRC, petitioner states that, despite the nature of the design, i.e., whether complicated or simple, the nature of the printing process is not complex. Petitioner further states that converting the tissue involves two to three minor processes typically performed by hand in the PRC: cutting the tissue to a specific size, folding it (by hand) and packaging for export (also by hand). Petitioner cites to an affidavit from the Petition (at Exhibit 5), where members of the domestic industry reported first-hand knowledge of the production facilities in China based on site visits where they observed papermaking and converting operations; the public version of Section D and Exhibit D-5 of the Section D response of China National Aero-Technology Import and Export Xiamen Corp. (China National) during the investigation, which reflects the production process petitioner described in its July 21, 2006, anti-circumvention request; and the January 6, 2005, verification report for China National at page 39 from the investigation, where Department verifiers confirm that China National used manual labor for folding paper and packaging. See August 18, 2006, petitioner submission at pages 2-4 and Exhibits 3-4. All of these sources, petitioner argues, support its statements that Chinese converting operations involve hand folding and packaging, rather than automated activities, and are therefore “minor or insignificant” processes.

Petitioner argues that an analysis of the relevant statutory factors of section 781(b)(2) of the Act further supports its conclusion that the Vietnam processing is “minor or insignificant.” These factors include: (1) level of investment in the foreign country; (2) level of research and development in the foreign country; (3) nature of the production process in the foreign country; (4) extent of production facilities in the foreign country; and (5) whether the value of the processing in the foreign country represents a small proportion of the value of the merchandise imported into the United States.

Petitioner argues that the Vietnam process is “minor and insignificant” as the term is defined in section 781(b)(2) of the Act when compared to the complex, highly capital intensive, skilled operations required to produce lightweight tissue paper from pulp, chemicals, and dyes in the PRC. Petitioner's analysis of the statutory factors follows:

(1) Level of Investment

Petitioner claims that available information from Quijiang and Guilin Qifeng indicates that little investment has been or is being made in Vietnam. Petitioner argues that the business model described by the two companies indicates that Quijiang only serves as a converting operation and an export platform for Guilin Qifeng and is not an integrated production operation. Petitioner further argues that Guilin Qifeng would have no desire to set up an operation in Vietnam that would compete with its own production capacity. Petitioner cites to Quijiang's business license, which provides a description of Quijiang's business activities, as proof of its statements. Because the business license is business proprietary information, its specific content cannot be discussed here. See July 21, 2006, anti-circumvention request at Exhibit 5. Petitioner concludes that the level of investment in the Vietnam processing facility is low.

(2) Level of Research and Development

Petitioner states that because Quijiang is affiliated with Guilin Qifeng, it is reasonable to presume that any research and development efforts would originate at Guilin Qifeng in the PRC. Furthermore, the tissue paper production industry is a mature industry and any innovations are refinements rather than new technologies, petitioner states, as determined by the U.S. International Trade Commission (USITC) in its injury findings. See Certain Tissue Paper Products From China, Inv. No. 731-TA-1070B (Final), Pub. 3758 at III-3 (March 2005) (USITC Final Report). Converting operations are also mature, according to petitioner, and likely involve hand-folding and packaging, rather than automated and research and development intensive activities, as would be found in the United States.

(3) Nature of the Production Process

Petitioner argues that both Quijiang and Guilin Qifeng describe the nature of the Vietnamese production process as follows: jumbo rolls further processed by cutting, slitting, dying, printing, decorating, folding, and packaging prior to transport. See July 21, 2006, anti-circumvention request at Exhibits 2-3. Although petitioner states that it does not have specific information regarding these production processes, it contends that taking the description at face value indicates that the operations are decorative in nature or involve completing the merchandise. Petitioner argues that none of the processes listed above, particularly dying and decorating, alter the fundamental nature or critical characteristics such as basis weight, quality, and texture- of the papermaking stage of production. Petitioner states that dip-dying, printing, and converting use few inputs, and, while cutting jumbo rolls to length involves some skill and may involve machinery, the essence of the activity is not complex although it can be performed in a variety of more or less complex ways. Folding and packing, petitioner adds, are done by hand in the PRC. Petitioner presumes, based on its knowledge of the PRC industry, that folding and packing are done by hand in Vietnam as well.

(4) Extent of Production in Vietnam

Petitioner states that it does not have access to detailed information concerning the extent of production facilities in Vietnam. However, petitioner claims that Quijiang's operations are housed in rented facilities, which suggests a lower level of investment than that which would be required by the capital-intensive nature of papermaking operations. Specifically, papermaking operations require that the necessary machinery be permanently placed and operated, while printing and converting operations are more easily temporarily housed and movable, petitioner states. Petitioner claims that the rented nature of the business operations supports a determination that Quijiang was established as a means for Guilin Qifeng to continue to use its production capacity while evading the dumping order.

(5) Value of Vietnam Processing Compared to Tissue Paper Imported Into the United States

Petitioner states that it does not have access to information concerning the cost of tissue paper rolls sent to Quijiang or the costs associated with operations in Vietnam; however, it contends that data from the period of investigation supports a determination that the value of processing performed in Vietnam represents a small proportion of value of the merchandise imported into the United States. In late 2003 and early 2004, petitioner states, it gathered prices on jumbo rolls and converted tissue paper products. Based on a comparison of two data points, petitioner argues that the value added by converting jumbo rolls is insignificant. Because the price points are business proprietary information, they cannot be discussed here. See July 21, 2006, anti-circumvention request at pages 21-22 and Exhibit 7.

D. Value of Merchandise Produced in PRC

Petitioner argues that the evidence as noted supra in their anti-circumvention request clearly supports its position that the value of the Guilin Qifeng jumbo rolls produced in the PRC and sent to Quijiang represents a significant portion of the total value of the merchandise exported to the United States, as measured by the prices at which jumbo rolls and converted tissue paper were offered for sale.

E. Factors To Consider in Determining Whether Action Is Necessary

Petitioner argues that additional factors must be considered in the Department's decision whether to issue a finding of circumvention regarding importation of Vietnamese tissue paper. These factors are discussed below.

Pattern of Trade

Petitioner states that section 781(b)(3) of the Act directs the Department to take into account patterns of trade when making a decision on anti-circumvention rulings. Petitioner argues that in February 2004, when petitioner and other members of the domestic industry filed a Petition in this proceeding, Vietnam was not a source of any exports of tissue paper to the United States. Petitioner bases these claims on an analysis of publicly available information from the Port Import Export Reporting Service (PIERS). See July 21, 2006, anti-circumvention request at Exhibit 1 and August 18, 2006, petitioner submission at Exhibits 1-2. Petitioner claims that four months after the petition was filed, in June 2004, Guilin Qifeng established Quijiang with the sole purpose of importing Chinese jumbo rolls for converting and completion into tissue paper for export into the United States. Two months later, petitioner contends, in August 2004 large and increasing volumes of tissue paper shipments from Vietnam emerged and have continued. See July 21, 2006, anti-circumvention request at Exhibit 1 and August 18, 2006, petitioner submission at Exhibits 1-2.

Affiliation

Petitioner states that section 781(b)(3) of the Act directs the Department to take into account whether the manufacturer or export of the merchandise is affiliated with the person who uses the merchandise to assemble or complete in the foreign country the merchandise that is subsequently imported into the United States when making a decision on anti-circumvention rulings. Petitioner contends that both Quijiang and Guilin Qifeng have admitted that they are affiliated companies. See July 21, 2006, anti-circumvention request at Exhibits 2 and 3. The timing of the establishment of Quijiang and the terms of the company's operation, i.e., importing rolls to be converted and then exported, petitioner argues, suggests a clear intention to shift completion of merchandise under order from the PRC to Vietnam.

Subsequent Import Volume

Petitioner states that section 781(b)(3) of the Act directs the Department to take into account whether imports into the foreign country of the merchandise have increased after the initiation of the investigation which resulted in the issuance of such an order or finding when making a decision on anti-circumvention rulings. Petitioner claims it does not have access to data concerning trade flows of jumbo rolls between the PRC and Vietnam; however, it noted that it is impossible that Quijiang would have received jumbo rolls before June 2004 because the company did not exist before then. Petitioner also claims that the evidence concerning Vietnam's lack of exports to the United States, along with the emergence of large exports of tissue paper starting in August 2004, is a reasonable basis for inferring that jumbo roll imports into Vietnam from the PRC increased after the initiation of the original investigation in this proceeding. See July 21, 2006, anti-circumvention request at Exhibit 1 and August 18, 2006, petitioner submission at Exhibits 1-2.

Comments from Quijiang

On August 11, 2006, Quijiang submitted comments on petitioner's July 21, 2006, anti-circumvention request. Quijiang states that the Department should not initiate an anti-circumvention inquiry. It claims that its production of tissue paper from Vietnamese-sourced paper, in addition to PRC-sourced paper, shows that Guilin Qifeng's investment in Vietnam is substantial and that research and development does take place at Quijiang. Quijiang argues that the effect of paper converting is significant and cites the record from the USITC injury determination where the USITC examined the converting process in detail and determined that the domestic industry consists of vertically integrated firms and firms that convert tissue paper from jumbo rolls. See USITC Final Report at I-10-11 and III-4; see also Id. at 3-4. Quijiang also claims that information from the March 12, 2004, USITC post-conference brief indicates the percentage of value added to a jumbo roll by the conversion process is significant and that this information is readily available to petitioner.

Quijiang states that the original scope request on jumbo rolls, in which the Department determined that jumbo rolls were excluded from the scope of this order, indicated that the value-added by converting operations was estimated to be about one third of the total value. See “Memorandum for Acting Deputy Assistant Secretary: Final Scope Ruling: Antidumping Duty Order on Certain Tissue Paper from the People's Republic of China (A-570-894); CSS Industries, Inc.,” dated December 1, 2004.

If the Department believes that Quijang's cutting of jumbo rolls may constitute circumvention, Quijiang argues, then it should investigate petitioner's operations as well because Quijiang is aware that its affiliate Guilin Qifeng sells petitioner jumbo rolls from the PRC which petitioner then converts using essentially the same production processes as Quijiang.¹ In addition, Quijiang states that it objects to petitioner having placed proprietary documents submitted by Quijiang and Guilin Qifeng in the first administrative review of tissue paper from the PRC on the record of this proceeding. Petitioner's decision, Quijiang claims, to submit the July 21, 2006, anti-circumvention request as business proprietary, including bracketing some of petitioner's own information, makes it impossible for Quijiang to meaningfully comment of the information contained within the submission as no administrative protective order (APO) has been established for the anti-circumvention inquiry yet.²

¹ At this time, the Department is not considering Quijiang's request here in the absence of a formal anti-circumvention request that provides information regarding all of the factors enumerated in section 781(b) of the Act.

² In accordance with our practice, the Department notes that an APO will be established upon the initiation of this inquiry and at that time Quijiang's counsel may apply for an APO and receive copies of the business proprietary anti-circumvention request and other relevant submissions, upon which it may then make more comments. We note that that lack of an APO at this time has no bearing on whether an anti-circumvention inquiry should be initiated.

For all the reasons stated above, Quijiang argues, the Department should reject petitioner's request to initiate an anti-circumvention inquiry.

Analysis

Based on our analysis of the application and the August 18, 2006, petitioner submission, the Department determines that a formal anti-circumvention inquiry is warranted. In accordance with 19 CFR 351.225(e), if the Department finds that the issue of whether a product is included within the scope of an order cannot be determined based solely upon the application and the descriptions of the merchandise, the Department will notify by mail all parties on the Department's scope service list of the initiation of a scope inquiry, including an anti-circumvention inquiry. In addition, in accordance with 19 CFR 351.225(f)(1)(ii), a notice of the initiation of an anti-circumvention inquiry issued under paragraph (e) of this section will include a description of the product that is the subject of the anti-circumvention inquiry in this case, cut-to-length tissue paper that contains the characteristics as provided in the scope of the order, and an explanation of the reasons for the Department's decision to initiate an anti-circumvention inquiry, as provided below.

With regard to whether the merchandise from Vietnam is of the same class or kind as the merchandise produced in the PRC, petitioner has presented information indicating that the merchandise being imported from Vietnam is of the same class or kind as the tissue paper produced in the PRC, which is subject to the antidumping duty order. The merchandise from Vietnam shares physical characteristics with the merchandise covered by the antidumping duty order.

With regard to completion of merchandise in a foreign country, petitioner has also presented information that the tissue paper from Vietnam is being processed in Vietnam using PRC jumbo rolls of tissue paper as the input. Guilin Qifeng and Quijiang have admitted the same on the record of the first administrative review of tissue paper from the PRC. See “Letter to the Secretary from Guilin Qifeng: Q&V response of Guilin Qifeng Paper Co., Ltd.,” dated June 21, 2006; see also “Letter to the Secretary from Quijiang: Q&V response of Vietnam Quijiang Paper Company, Limited,” dated May 25, 2006.

With regard to whether the conversion of PRC jumbo rolls of tissue paper into cut-to-length tissue paper from Vietnam is a “minor or insignificant process,” petitioner addressed the relevant statutory factors used to determine whether the processing jumbo rolls of tissue paper is minor or insignificant with the best information available to petitioner at the time of the request. Petitioner relied on information from the underlying investigation and information placed on the record of the first administrative review by Quijiang and Guilin Qifeng. Although Quijiang has challenged petitioner's claim that the conversion process in Vietnam is “minor or insignificant,” we find that the information presented by petitioner supports petitioner's request to initiate an anti-circumvention inquiry. In particular, petitioner provides evidence for each of the criteria provided in the statute, including arguing 1) that Quijiang's business license suggests little investment has been made in Quijiang; 2) that because Guilin Qifeng has a fully integrated production facility and is affiliated with Quijiang it is reasonable to presume that research and development takes place in the PRC; 3) that printing, folding, and cutting, i.e., the converting process, do not alter the fundamental characteristics of the tissue paper; 4) that Quijiang's rented facilities suggest a lower investment level than that required by the capital-intensive nature of the paper-making process; and 5) that business proprietary price points obtained by petitioner suggest that converting tissue paper adds little value to the merchandise imported to the United States. Furthermore, we note that the converting operations described in the scope request and in the USITC report, to which Quijiang refers, discuss converting operations in the United States. Our analysis will focus on converting operations in Vietnam and, in the context of this proceeding, we will closely examine the value-added and extent of processing in Vietnam.

With respect to the value of the merchandise produced in the PRC, petitioner relied on the information and arguments in the “minor or insignificant process” portion of its anti-circumvention request to indicate that the value of jumbo rolls of tissue paper is significant relative to the total value of finished merchandise exported to the United States. We find that the information adequately meets the requirements of this factor, as discussed above.

Finally, petitioner argued that the Department should also consider the pattern of trade, affiliation, and subsequent import volumes as factors in determining whether to initiate the anti-circumvention inquiry. The import information submitted by petitioner indicates that imports of tissue paper from Vietnam are rising significantly. Moreover, Guilin Qifeng's and Quijiang's own statements establish that Quijiang is an affiliate of Guilin Qifeng.

Accordingly, we are initiating a formal anti-circumvention inquiry concerning the antidumping duty order on certain tissue paper products from the PRC, pursuant to section 781(b) of the Act. In accordance with 19 CFR 351.225(l)(2), if the Department issues a preliminary affirmative determination, we will then instruct U.S. Customs and Border Protection to suspend liquidation and require a cash deposit of estimated duties on the merchandise.

The Department is focusing its analysis of the significance of the production process in Vietnam on the single processor identified by the petitioner, namely Quijiang, in its July 21, 2006, anti-circumvention request and about which sufficient information to initiate an inquiry has been provided. If the Department receives a formal request from an interested party regarding potential circumvention by other Vietnamese companies involved in processing PRC jumbo rolls for export to the United States within sufficient time, we will consider conducting the inquiries concurrently.

The Department will, following consultation with interested parties, establish a schedule for questionnaires and comments on the issues. The Department intends to issue its final determination within 300 days of the date of publication of this initiation.

This notice is published in accordance with section 777(i)(1) of the Act.

Dated: September 5, 2006.
David M. Spooner,
Assistant Secretary for Import Administration.

[FR Doc. E6-15094 Filed 9-11-06; 8:45 am]

BILLING CODE 3510-DS-S